DEPARTMENT OF TRANSPORTATION

Federal Aviation Administration

14 CFR Part 39

[Docket No. FAA-2005-22918; Directorate Identifier 2005-NM-172-AD]

RIN 2120-AA64

Airworthiness Directives; Airbus Model A319-100 and A320-200 Series Airplanes

AGENCY: Federal Aviation Administration (FAA), Department of Transportation (DOT).

ACTION: Supplemental notice of proposed rulemaking (NPRM); reopening of comment period.

SUMMARY: The FAA is revising an earlier NPRM for an airworthiness directive (AD) that applies to certain Airbus Model A319-100 and A320-200 series airplanes. The original NPRM would have required repetitive inspections of the wing-tank fuel pumps, canisters, and wing fuel tanks for detached identification labels, and corrective action if necessary. The original NPRM resulted from several incidents of detached plastic identification labels found floating in the wing fuel tanks. This action revises the original NPRM by expanding the applicability and mandating modification of the fuel strainers at the fuel pump and suction bypass intakes. We are proposing this supplemental NPRM to prevent plastic identification labels being ingested into the fuel pumps and consequently entering the engine fuel feed system, which could result in an engine shutdown.

DATES: We must receive comments on this supplemental NPRM by April 23, 2007.

ADDRESSES: Use one of the following addresses to submit comments on this supplemental NPRM.

• DOT Docket web site: Go to http://dms.dot.gov and follow the instructions for sending your comments electronically.

• Government-wide rulemaking web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9:00 a.m. and 5:00 p.m., Monday through Friday, except Federal holidays.

Contact Airbus, 1 Rond Point Maurice Bellonte, 31707 Blagnac Cedex, France, for service information identified in this proposed AD.

FOR FURTHER INFORMATION CONTACT: Tim Dulin, Aerospace Engineer, International Branch, ANM-116, FAA, Transport Airplane Directorate, 1601 Lind Avenue, SW., Renton, Washington 98057-3356; telephone (425) 227-2141; fax (425) 227-1149.

SUPPLEMENTARY INFORMATION:

Comments Invited

We invite you to submit any relevant written data, views, or arguments regarding this supplemental NPRM. Send your comments to an address listed in the ADDRESSES section. Include the docket number “Docket No. FAA-2005-22918; Directorate Identifier 2005-NM-172-AD” at the beginning of your comments. We specifically invite comments on the overall regulatory, economic, environmental, and energy aspects of this supplemental NPRM. We will consider all comments received by the closing date and may amend this supplemental NPRM in light of those comments.

We will post all comments submitted, without change, to http://dms.dot.gov, including any personal information you provide. We will also post a report summarizing each substantive verbal contact with FAA personnel concerning this supplemental NPRM. Using the search function of that web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level in the Nassif Building at the DOT street address stated in ADDRESSES. Comments will be available in the AD docket shortly after the Docket Management System receives them.

Discussion

We proposed to amend 14 CFR part 39 with a notice of proposed rulemaking (NPRM) for an airworthiness directive (AD) (the “original NPRM”). The original NPRM applies to certain Airbus Model A319-100 and A320-200 series airplanes. The original NPRM was published in the Federal Register on November 10, 2005 (70 FR 68379). The original NPRM proposed to require repetitive inspections of the wing-tank fuel pumps, canisters, and wing fuel tanks for detached identification labels, and corrective action if necessary.

Since the original NPRM was issued, the European Aviation Safety Agency (EASA), which is the Technical Agent for the Member States of the European Community, superseded French airworthiness directive F-2005-121, dated July 20, 2005, and issued EASA airworthiness directive 2006-0236, dated August 10, 2006. The French airworthiness directive was referred to in the original NPRM. The EASA airworthiness directive expands the applicability and mandates the modification of the fuel strainers at the fuel pump and suction bypass intakes, which terminates the repetitive inspections.

Relevant Service Information

Airbus has issued Service Bulletin A320-28-1102, Revision 02, including Appendix 01, dated July 10, 2006 (Revision 01, dated February 11, 2005, was referred to in the original NPRM as the appropriate source of service information for accomplishing the repetitive detailed visual inspections for detached identification labels in the four wing-tank fuel pumps and canisters). The procedures in Revision 02 are essentially the same as those in Revision 01; however, Revision 02 revises the accomplishment timescales, updates the effectivity, and contains editorial changes.

Airbus has also issued Service Bulletin A320-57-1117, Revision 02, including Appendix 01, dated March 13, 2006. We referred to the original issue in the original NPRM as the appropriate source of service information for accomplishing the repetitive detailed visual inspections for detached identification labels in the collector cells between ribs 1 and 2, the surge tank between ribs 22 and 26, and the wing fuel tank and vent box. Additional work is necessary for airplanes on which the original issue of the service bulletin was accomplished. The procedures specified in subsequent revisions of the service bulletin include removing the labels, marking the fastener data on the wing structure with black ink on a white background, and restoring the primer before marking the fastener data on the wing structure. An additional inspection of work accomplished in accordance with previous issues of the service bulletin is also necessary. The inspection involves an adhesion test of the paint applied.

In addition, Airbus has issued Service Bulletin A320-28-1149, dated June 14, 2006. The service bulletin describes procedures for modifying the fuel strainers at the fuel pump and suction bypass intakes. The modification includes, among other things, installing support brackets for the fuel pump strainers; installing new, improved fuel pump strainer assemblies; and installing new, improved fuel pump suction valve strainer assemblies. Accomplishing this modification eliminates the need for the repetitive inspections specified in Service Bulletin A320-28-1102. Service Bulletin A320-28-1149 also recommends prior or concurrent accomplishment of the inspections specified in Service Bulletin A320-57-1117.

Accomplishing the actions specified in the service information is intended to adequately address the unsafe condition. The EASA mandated the service information and issued airworthiness directive 2006-0236, dated August 10, 2006, to ensure the continued airworthiness of these airplanes in France.

Comments

We have considered the following comments on the original NPRM.

Request To Change Applicability/Add Revised Service Information

Airbus states that the EASA airworthiness directive corrects the applicability specified therein (and identified in the original NPRM). Airbus adds that the service bulletins have also been revised to list new manufacturer serial numbers (MSNs) in the applicability, including two U.S. MSNs.

We infer that Airbus wants us to change the applicability in the original NPRM and add the revised service information. We agree to change the applicability in this supplemental NPRM to correspond with the EASA airworthiness directive specified in the Discussion section above, and to add the revised Airbus service bulletins specified in the Relevant Service Information section above. Therefore, we have changed paragraphs (c), (f), (g), and (i) of this supplemental NPRM accordingly.

Requests To Extend Repetitive Inspection Interval or Remove Repetitive Inspections Specified in Paragraph (f) of the Original NPRM

The Air Transport Association (ATA), on behalf of two of its members, Northwest Airlines and America West Airlines, states that the intent of the 600-flight-hour repetitive inspections for detached identification labels in the four wing-tank fuel pumps and canisters is already being addressed per the current master minimum equipment list (MMEL) requirements, and would be superfluous and ineffective. America West asks that the one-pump restriction per MMEL 28-21-01 be removed on airplanes identified in Service Bulletin A320-28-1102. America West states that the pumps will be inspected at sufficient intervals to provide an acceptable level of assurance that the remaining pump is not clogged with labels.

Northwest Airlines states that accomplishing the noted service bulletins and the current MMEL makes the inspection requirement unnecessary. Northwest Airlines adds that this is for two main reasons: First, the only remaining labels will be located in the vent box, and thus not normally immersed in fuel; therefore, it would be improbable that the labels would detach; second, per the MMEL, a wing tank fuel pump cannot be placed on the MEL if a “Fuel Tank LO PR” warning is displayed on the electronic centralized aircraft monitor. If this warning is displayed, the airplane is grounded pending a full inspection of the affected fuel system components.

America West states that the 600-flight-hour repeat interval is not warranted due to the actions taken. America West previously accomplished the inspection of the fuel pumps and canisters specified in Airbus Service Bulletin A320-28-1102, Revision 01. America West adds that it also previously accomplished the inspection of the fuel tank and vent box specified in Airbus Service Bulletin A320-57-1117. America West finds that these actions adequately removed all the labels and it has been over two years since the inspection was accomplished and no labels have been found in the fuel tanks or pumps during that timeframe. America West is concerned that repeating the inspection every 600 flight hours would result in excessive removals of the pumps, which could lead to additional maintenance issues and possible safety issues, such as damage to the pump and/or fuel leaks. America West asks that the repetitive interval be extended to a C-check.

America West also notes that it does not agree with the definition of a detailed inspection specified in the original NPRM. America West explains that the definition would be interpreted as a requirement to have the component torn down in a shop environment, and adds that experience has shown that the pump can have an adequate inspection at the airplane and the canisters can be inspected without removal from the airplane.

We partially agree. We do not agree to remove the repetitive inspections required by paragraph (f) of this supplemental NPRM; however, we do agree to extend the repetitive interval for certain airplanes. We have changed paragraph (g) of this supplemental NPRM to require repeating the inspection at intervals not to exceed 600 flight hours for airplanes on which the actions specified in Airbus Service Bulletin A320-57-1117, Revision 02, dated March 13, 2006, have not been done; or at intervals not to exceed 3,000 flight hours for airplanes on which those actions have been done. This supplemental NPRM would also require repeating the inspection before the next flight following any wing-tank fuel pump failure. This change coincides with the repetitive inspection interval required by the EASA airworthiness directive. In addition, we do not agree to remove the one-pump restriction per MMEL 28-21-01, as this reinforces maintaining safe flight of the airplane following any wing-tank fuel pump failure.

Request To Use Alternate Marking Procedure

ATA, on behalf of its member U.S. Airways, states that the repair procedure in Appendix 01 of Service Bulletin A320-57-1117 requests operators to apply varnish over the white painted area on which panel fastener information is written using indelible ink. U.S. Airways adds that it found that if a marker is used to re-identify the fastener information, as soon as the recommended varnish is applied, the information gets smudged and smeared and is no longer legible. U.S. Airways used black paint MPN 8000B00701CAQBTX instead of the recommended marker, and after the varnish is applied there is no smudging or smearing. U.S. Airways asks that the supplemental NPRM include approval to use this black paint (or equivalent) in lieu of Eddings 8404.

We do not agree to change the supplemental NPRM to specify alternative marking methods. Revision 02 of Service Bulletin A320-57-1117 includes a note specifying that the varnish be applied with a single brush stroke, as subsequent brush strokes may cause damage to the lettering. However, if operators continue to have problems with the marking they may request an alternative method of compliance to obtain approval for using the black paint, in accordance with the procedures specified in paragraph (l) of this supplemental NPRM. We have made no change to the supplemental NPRM in this regard.

Request To Change Work Hours

US Airways states that the Costs of Compliance section in the original NPRM specifies 3 work hours (including an operational test) per airplane for the inspection specified in Service Bulletin A320-28-1102, and 6 work hours (including an operational test) for the inspection specified in Service Bulletin A320-57-1117. U.S. Airways notes that the service bulletins referred to in the Costs of Compliance section actually specify 10 and 47 hours respectively. U.S. Airways asks that the work hours be changed to specify between 24 and 30 work hours for accomplishing the inspections.

We do not agree to change the work hours as specified by U.S. Airways. The cost information describes only the direct costs of the specific actions required by this AD. Based on the best data available, the manufacturer provided the number of work hours necessary to do the required actions. These numbers represent the time necessary to perform only the actions actually required by this supplemental NPRM. We recognize that, in doing the actions required by a supplemental NPRM, operators might incur incidental costs in addition to the direct costs. The cost analysis in AD rulemaking actions, however, typically does not include incidental costs such as the time required to gain access and close up, time necessary for planning, or time necessitated by other administrative actions. Those incidental costs, which might vary significantly among operators, are almost impossible to calculate. However, the work hours specified in Revision 02 of Service Bulletin A320-57-1117 were revised to include time necessary for additional procedures. Therefore, we have changed the work hours specified for the inspections in that service bulletin to 20 work hours. We have made no further change to this supplemental NPRM regarding this issue.

FAA's Determination and Proposed Requirements of the Supplemental NPRM

The changes discussed above expand the scope of the original NPRM; therefore, we have determined that it is necessary to reopen the comment period to provide additional opportunity for public comment on this supplemental NPRM.

Difference Between the Supplemental NPRM and EASA Airworthiness Directive

The EASA airworthiness directive mandates changes to the MMEL. This supplemental NPRM will not mandate those MMEL changes because the limits imposed by the FAA-approved MMEL meet or exceed those mandated by the EASA airworthiness directive. We have coordinated this issue with the EASA.

Explanation of Change to Costs of Compliance Section

After the original NPRM was issued, we reviewed the figures we have used over the past several years to calculate AD costs to operators. To account for various inflationary costs in the airline industry, we find it necessary to increase the labor rate used in these calculations from $65 per work hour to $80 per work hour. The costs of compliance, below, reflect this increase in the specified hourly labor rate.

Costs of Compliance

The following table provides the estimated costs for U.S. operators to comply with this supplemental NPRM.

Estimated Costs
Action | Work hours | Average labor rate per hour | Parts | Cost per airplane | Number of U.S.- registered airplanes | Fleet cost
Inspection specified in Service Bulletin A320-28-1102 | 3 | $80 | $0 | $240, per inspection cycle | 70 | $16,800, per inspection cycle.
Inspection specified in Service Bulletin A320-57-1117 | 20 | 80 | 0 | $1,600, per inspection cycle | 70 | $112,000, per inspection cycle.
Modification specified in Service Bulletin A320-28-1149 | 20 | 80 | 0 | $1,600 | 70 | $112,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this supplemental NPRM and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

Airbus: Docket No. FAA-2005-22918; Directorate Identifier 2005-NM-172-AD.

Comments Due Date

(a) The FAA must receive comments on this AD action by April 23, 2007.

Affected ADs

(b) None.

Applicability

(c) This AD applies to all Airbus Model A319-100 and Model A320-200 series airplanes, certificated in any category, as identified in Airbus Service Bulletins A320-28-1102, Revision 02, dated July 10, 2006, and A320-57-1117, Revision 02, dated March 13, 2006.

Unsafe Condition

(d) This AD results from several incidents of detached plastic identification labels found floating in the wing fuel tanks. We are issuing this AD to prevent plastic identification labels being ingested into the fuel pumps and consequently entering the engine fuel feed system, which could result in an engine shutdown.

Compliance

(e) You are responsible for having the actions required by this AD performed within the compliance times specified, unless the actions have already been done.

Repetitive Inspections/Corrective Actions of Four Wing-Tank Fuel Pumps and Canisters

(f) Perform a detailed inspection for detached identification labels in the four wing-tank fuel pumps and canisters, and do all applicable corrective actions, by doing all the actions in accordance with the Accomplishment Instructions of Airbus Service Bulletin A320-28-1102, Revision 02, dated July 10, 2006; except as provided by paragraph (j) of this AD. Do all applicable corrective actions before further flight. Inspect at the earlier of the compliance times specified in paragraphs (f)(1) and (f)(2) of this AD.

(1) Within 600 flight hours after the effective date of this AD.

(2) Before the next flight following any wing-tank fuel pump failure.

(g) Repeat the inspection required by paragraph (f) of this AD thereafter at the applicable time specified in paragraph (g)(1) or (g)(2) of this AD, until accomplishment of paragraph (j) of this AD.

(1) For airplanes on which the inspections required by paragraph (i) of this AD have not been done: Repeat the inspection at intervals not to exceed the earlier of the times specified in paragraphs (g)(1)(i) and (g)(1)(ii) of this AD.

(i) 600 flight hours.

(ii) Before the next flight following any wing-tank fuel pump failure.

(2) For airplanes on which the inspections required by paragraph (i) of this AD have been done: Repeat the inspection at intervals not to exceed the earlier of the times specified in paragraphs (g)(2)(i) and (g)(2)(ii) of this AD.

(i) 3,000 flight hours.

(ii) Before the next flight following any wing-tank fuel pump failure.

Note 1: For the purposes of this AD, a detailed inspection is: “An intensive examination of a specific item, installation, or assembly to detect damage, failure, or irregularity. Available lighting is normally supplemented with a direct source of good lighting at an intensity deemed appropriate. Inspection aids such as mirror, magnifying lenses, etc., may be necessary. Surface cleaning and elaborate procedures may be required.”

Credit for Actions Accomplished Using Previous Service Information

(h) Inspections and corrective actions accomplished before the effective date of this AD in accordance with Airbus Service Bulletin A320-28-1102, dated August 20, 2002; or Revision 01, dated February 11, 2005; are considered acceptable for compliance with the corresponding actions specified in paragraph (f) of this AD.

Inspection/Corrective Actions of the Collector Cells, Surge Tank, Wing Fuel Tank and Vent Box

(i) Within 60 months after the effective date of this AD: Perform a detailed inspection for detached identification labels in the collector cells between ribs 1 and 2, the surge tank between ribs 22 and 26, and the wing fuel tank and vent box, and do any applicable corrective actions, by doing all the applicable actions in accordance with the Accomplishment Instructions of Airbus Service Bulletin A320-57-1117, Revision 02, including Appendix 01, dated March 13, 2006. Do any applicable corrective action before further flight.

Modification

(j) Before the accumulation of 162 months since first flight of the airplane, or within 6 months after the effective date of this AD, whichever is later: Modify the fuel strainers at the fuel pump and suction bypass intakes by doing all the actions in accordance with Airbus Service Bulletin A320-28-1149, dated June 14, 2006. Accomplishment of the modification in this paragraph ends the repetitive inspections required by paragraph (g) of this AD.

No Reporting Required

(k) Although Airbus Service Bulletin A320-28-1102, Revision 02, dated July 10, 2006, specifies submitting an inspection report to the manufacturer, this AD does not include that requirement.

Alternative Methods of Compliance (AMOCs)

(l)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(m) European Aviation Safety Agency airworthiness directive 2006-0236, dated August 10, 2006, also addresses the subject of this AD.

Issued in Renton, Washington, on March 20, 2007.
Ali Bahrami,
Manager, Transport Airplane Directorate, Aircraft Certification Service.

[FR Doc. E7-5666 Filed 3-28-07; 8:45 am]

BILLING CODE 4910-13-P